DEPARTMENT OF TRANSPORTATION

Federal Transit Administration

Fiscal Year 2017 Grants for Buses and Bus Facilities Infrastructure Investment Program

AGENCY: Federal Transit Administration (FTA), DOT.

ACTION: Notice; announcement of project selections. Fiscal year 2017 Grants for Buses and Bus Facilities Infrastructure Investment Program.

SUMMARY: The Federal Transit Administration (FTA) announces the selection of projects with $226,473,000 of Fiscal Year (FY) 2017 and $37,973,775 of FY 2018 appropriations for the Grants for Buses and Bus Facilities Infrastructure Investment Program (Bus and Bus Infrastructure Program).

FOR FURTHER INFORMATION CONTACT: Successful applicants should contact the appropriate FTA Regional Office for information regarding applying for the funds or program-specific information. A list of Regional Offices can be found at www.fta.dot.gov. Unsuccessful applicants may contact Mark G. Bathrick, Office of Program Management at (202) 366-9955, email: Mark.Bathrick@dot.gov, to arrange a proposal debriefing within 30 days of this announcement. A TDD is available at 1-800-877-8339 (TDD/FIRS).

SUPPLEMENTARY INFORMATION: On July 18, 2017, FTA published a Notice of Funding Opportunity (NOFO) announcing the availability of Federal funding for the Grants for Buses and Bus Facilities Infrastructure Investment Program as authorized by Federal transit law (49 U.S.C. 5339(b)). These program funds will provide financial assistance to states and eligible public agencies to replace, rehabilitate, purchase, or lease buses, vans, and related equipment, and capital projects to rehabilitate, purchase, construct, or lease bus-related facilities. In response to the NOFO, FTA received 453 project proposals from 53 States and territories totaling approximately $2 billion in Federal funds, or nearly nine dollars requested for each dollar available, indicating significant demand for funding for buses and bus facility projects. Project proposals were evaluated based on each applicant's responsiveness to the program evaluation criteria outlined in the NOFO.

FTA is funding 139 projects, as shown in Table 1, for a total of $264,446,775. Recipients selected for competitive funding should work with their FTA Regional Office to submit a grant application in FTA's Transit Award Management System (TrAMs) for the projects identified in the attached table. Funds must be used consistent with the competitive proposal and for the eligible capital purposes established in the NOFO and described in the FTA Circular 9030.1E. Applicants with more than one selected project will receive a single allocation that may be used for any one or more of the selected projects.

In cases where the allocation amount is less than the proposer's total requested amount, recipients are required to fund the scalable project option as described in the application. If the award amount does not correspond to the scalable option, for example due to a cap on the award amount, the recipient should work with the Regional Office to reduce scope or scale the project such that a complete phase or project is accomplished. Recipients are reminded that program requirements such as cost sharing or local match can be found in the NOFO. A discretionary project identification number has been assigned to each project for tracking purposes and must be used in the TrAMs application.

Selected projects are eligible to incur costs under pre-award authority no earlier than the date projects were publicly announced, April 5, 2018. Pre-award authority does not guarantee that project expenses incurred prior to the award of a grant will be eligible for reimbursement, as eligibility for reimbursement is contingent upon other requirements, such as planning and environmental requirements, having been met. For more about FTA's policy on pre-award authority, please see the FTA Fiscal Year Apportionments, Allocations, and Program Information and Interim Guidance found in 82 FR 6692 (January 19, 2017). Post-award reporting requirements include submission of the Federal Financial Report and Milestone progress reports in TrAMs as appropriate (see FTA.C.5010.1E and C9030.1E). Recipients must comply with all applicable Federal statutes, regulations, executive orders, FTA circulars, and other Federal requirements in carrying out the project supported by the FTA grant. FTA emphasizes that recipients must follow all third-party procurement guidance, as described in FTA.C.4220.1F. Funds allocated in this announcement must be obligated in a grant by September 30, 2021.

K. Jane Williams,
Acting Administrator.

Table 1—FY 16 Grants for Buses and Bus Facilities Competition Project Selections
State | Applicant | Project ID | Project description | Funded amount | Project rating
AK | Alaska Department of Transportation & Public Facilities | D2017-BUSC-001 | Interior Alaska Bus Line transit vehicle replacement project | $68,000 | Highly Recommended.
AK | Alaska Department of Transportation & Public Facilities | D2017-BUSC-002 | Purchase of Replacement Paratransit Buses | $216,000 | Highly Recommended.
AK | Alaska Department of Transportation & Public Facilities | D2017-BUSC-003 | Snow Removal Equipment for Stops and Shelters | $140,000 | Highly Recommended.
AK | Ninilchik Village | D2017-BUSC-004 | Bus Maintenance Facility | $551,982 | Highly Recommended.
AK | Municipality of Anchorage | D2017-BUSC-005 | MOA PTD Bus Storage Building Roof and Interior Drainage Replacement | $1,250,000 | Highly Recommended.
AL | Birmingham-Jefferson County Transit Authority | D2017-BUSC-006 | Bus Acquisition | $3,600,000 | Highly Recommended.
AR | Ozark Regional Transit | D2017-BUSC-007 | Replacement of Buses | $3,600,000 | Highly Recommended.
AR | Rock Region METRO | D2017-BUSC-008 | Bus Replacement | $3,570,000 | Highly Recommended.
AZ | City of Phoenix | D2017-BUSC-009 | Bus Replacement | $2,600,000 | Highly Recommended.
CA | Butte County Association of Governments | D2017-BUSC-010 | ADA Bus Stop Replacements and Rehabilitations | $1,206,518 | Highly Recommended.
CA | City of Davis | D2017-BUSC-011 | Unitrans Bus Mid-Life Overhaul | $1,206,518 | Highly Recommended.
CA | City of Norwalk | D2017-BUSC-012 | 2 Projects: (1) Anaheim Transportation Network: Zero-Emission Battery Electric Bus Replacement Project/ (2) Norwalk Transit System: Zero-Emission Battery Electric Bus Expansion Project | $1,206,518 | Highly Recommended.
CA | City of Santa Rosa | D2017-BUSC-013 | CityBus Electric Bus Project | $1,206,518 | Highly Recommended.
CA | Fairfield, City of | D2017-BUSC-014 | Diesel-Electric Hybrid Bus Replacement Project | $1,206,518 | Highly Recommended.
CA | Livermore Amador Valley Transit Authority | D2017-BUSC-015 | Livermore Transit Center Rehabilitation and Improvement Project | $434,811 | Highly Recommended.
CA | Long Beach Public Transportation Company | D2017-BUSC-016 | Purchase of Battery-Electric Buses | $1,206,518 | Highly Recommended.
CA | North County Transit District | D2017-BUSC-017 | Replacement of Battery-Electric Buses | $1,206,518 | Highly Recommended.
CA | Orange County Transportation Authority | D2017-BUSC-018 | 2 Projects: (1) OCTA Bus Amenities Infrastructure Improvement Program/ (2) OCTA Bus Operations Infrastructure Improvement Program | $1,206,518 | Highly Recommended.
CA | Sacramento Regional Transit District | D2017-BUSC-019 | Bus Maintenance Facility #1 (BMF1) Compressed Natural Gas (CNG) Fueling Equipment Replacement | $1,206,518 | Highly Recommended.
CA | Santa Cruz Metropolitan Transit District | D2017-BUSC-020 | Santa Cruz METRO: CNG Bus Replacements | $1,206,518 | Highly Recommended.
CA | California Department of Transportation | D2017-BUSC-021 | Nevada County Transit Services Transit Facility Improvement Project | $500,000 | Highly Recommended.
CO | State of Colorado Department of Transportation | D2017-BUSC-022 | Estes Park—Green Bus (Electric Trolley) Acquisition | $360,045 | Highly Recommended.
CO | State of Colorado Department of Transportation | D2017-BUSC-023 | Glenwood Springs—Purchase CNG bus | $458,384 | Highly Recommended.
CO | City of Colorado Springs dba Mountain Metropolitan Transit | D2017-BUSC-024 | Transit Campus Expansion | $758,785 | Highly Recommended.
CO | State of Colorado Department of Transportation | D2017-BUSC-025 | Durango Transit Replacement Trolleys | $264,000 | Highly Recommended.
CO | State of Colorado Department of Transportation | D2017-BUSC-026 | Greeley—Fixed Route Bus Replacement | $758,785 | Highly Recommended.
CT | Norwalk Transit District | D2017-BUSC-027 | Norwalk Transit District ASM Rehabilitation and Expansion Project | $3,600,000 | Highly Recommended.
DC | Washington Metropolitan Area Transit Authority | D2017-BUSC-028 | Bus Shelter Asset Replacement | $3,600,000 | Highly Recommended.
DE | Delaware Transit Corporation | D2017-BUSC-029 | North Middletown, Delaware, Park and Ride | $150,000 | Highly Recommended.
DE | Delaware Transit Corporation | D2017-BUSC-030 | Wilmington Transit Corridor Reconfiguration/Improvements | $2,450,000 | Highly Recommended.
FL | Lee County Board of County Commissioners | D2017-BUSC-031 | LeeTran South County Transfer Station and Park and Ride Lot | $3,000,000 | Highly Recommended.
FL | Manatee County Board of County Commissioners/MCAT | D2017-BUSC-032 | Manatee County Revenue Fleet Rehabilitation | $1,913,000 | Highly Recommended.
FL | Miami-Dade County | D2017-BUSC-033 | Miami-Dade Department of Transportation and Public Works CNG Bus Purchases for DTPW Bus Replacement Program | $3,600,000 | Highly Recommended.
GA | Georgia Regional Transportation Authority | D2017-BUSC-034 | 2 Projects: (1) Xpress Park-and-Ride Technology Refresh/ (2) Xpress West Operations and Light Maintenance Facility | $3,600,000 | Highly Recommended.
GA | Metropolitan Atlanta Rapid Transit Authority (MARTA) | D2017-BUSC-035 | MARTA Articulated Near-Zero Emissions CNG Bus Acquisition/Replacement Program | $3,600,000 | Highly Recommended.
HI | Hawaii Department of Transportation | D2017-BUSC-036 | Purchase of replacement light and medium duty vans | $576,000 | Highly Recommended.
IA | Iowa Department of Transportation | D2017-BUSC-037 | 2 Projects: (1) Iowa Rural Transit Bus Replacement Project/ (2) Iowa Urban Transit Bus Replacement Project | $3,600,000 | Highly Recommended.
ID | Coeur d' Alene Tribe | D2017-BUSC-038 | Replacement bus for the Coeur d' Alene Tribe Citylink public bus transit service | $115,200 | Highly Recommended.
ID | Idaho Transportation Department | D2017-BUSC-039 | Mountain Rides buses and vans replacement project | $540,000 | Highly Recommended.
ID | Idaho Transportation Department | D2017-BUSC-040 | Vehicle Replacements for Grand Targhee Shuttle | $240,000 | Highly Recommended.
ID | Idaho Transportation Department | D2017-BUSC-041 | Bus Replacement | $136,000 | Highly Recommended.
IL | Greater Peoria Mass Transit District | D2017-BUSC-042 | Replacement of a Bus Maintenance and Operations Facility at the current GPMTD Bus Maintenance and Operations Facility location | $3,600,000 | Highly Recommended.
IL | Madison County Mass Transit District | D2017-BUSC-043 | MCT 30-foot Heavy Duty Clean Diesel Transit Bus Replacement | $3,600,000 | Highly Recommended.
IL | Rock Island Co. Metropolitan Mass Transit District | D2017-BUSC-044 | MetroLINK Electric Corridor Project | $3,165,000 | Highly Recommended.
IL | Springfield Mass Transit District | D2017-BUSC-045 | Replacement of Compressed Natural Gas (CNG) buses | $2,201,724 | Highly Recommended.
IN | Bloomington Public Transportation Corporation | D2017-BUSC-046 | Bus Replacement | $720,000 | Highly Recommended.
IN | Fort Wayne Public Transportation Corporation/Citilink | D2017-BUSC-047 | Heavy Duty Bus Replacement; On-board camera safety system upgrade; bus maintenance training | $2,502,028 | Highly Recommended.
IN | Greater Lafayette Public Transportation Corporation | D2017-BUSC-048 | CityBus of Lafayette Pedestrian and Cyclist Detection Systems | $485,760 | Highly Recommended.
KS | City of Wichita | D2017-BUSC-049 | Bus Purchase—Downtown Trolley Replacement | $2,600,000 | Highly Recommended.
KY | Transit Authority of River City | D2017-BUSC-050 | Bus Replacement | $3,600,000 | Highly Recommended.
KY | Kentucky Transportation Cabinet | D2017-BUSC-051 | Rural Transit Expansion & Replacement Vehicles | $3,600,000 | Highly Recommended.
KY | City of Owensboro | D2017-BUSC-052 | Replacement Fixed-Route Buses | $677,406 | Highly Recommended.
LA | Capital Area Transit System | D2017-BUSC-053 | Replace Vans with Buses | $2,600,000 | Highly Recommended.
MA | Berkshire Regional Transit Authority | D2017-BUSC-054 | Replacement of 35 Foot Low Floor Diesel Buses | $660,721 | Highly Recommended.
MA | Massachusetts Department of Transportation | D2017-BUSC-055 | Construction of New Franklin Regional Transit Authority Maintenance and Operations Facility | $6,000,000 | Highly Recommended.
MD | Maryland Transit Administration | D2017-BUSC-056 | Beyond the Bus Stop: Facility Improvements for Operators and Passengers | $2,600,000 | Highly Recommended.
ME | City of Bangor | D2017-BUSC-057 | Replacement Buses | $1,944,540 | Highly Recommended.
MI | City of Detroit Department of Transportation | D2017-BUSC-058 | Coolidge Terminal and Maintenance Facility Rehabilitation | $3,600,000 | Highly Recommended.
MI | Michigan Department of Transportation | D2017-BUSC-059 | 2 Projects: (1) Expand Current Operations Center for Harbor Transit Multi-Modal Transit System (HTTMTS)/ (2) Transit Revenue Vehicle Replacements for Rural Agencies and Small Urban Agencies | $3,600,000 | Highly Recommended.
MN | Duluth Transit Authority | D2017-BUSC-060 | Duluth Transit Authority Fare Collection System Replacement Project | $1,800,320 | Highly Recommended.
MO | City of St. Joseph, Missouri | D2017-BUSC-061 | Bus Replacement | $4,725,000 | Highly Recommended.
MO | Missouri Department of Transportation | D2017-BUSC-062 | Missouri Rural Transit Asset Replacement Project for the purchase of transit buses or vans for rural public transportation | $3,600,000 | Highly Recommended.
MS | Mississippi Coast Transportation Authority dba Coast Transit | D2017-BUSC-063 | Phase II Improvements, South Approach and Transit Tram Bridge across US 90 from the Coast Transit Authority (CTA) Gulfport Transit Center to Jones Park Bus Station, Gulfport, MS | $2,600,000 | Highly Recommended.
MT | Missoula Urban Transportation District | D2017-BUSC-064 | Comprehensive Capital Investments | $2,726,888 | Highly Recommended.
MT | Confederated Salish & Kootenai Tribes | D2017-BUSC-065 | CSKT/Flathead Transit Bus and Bus Facilities Infrastructure and Workforce Development Project | $580,000 | Highly Recommended.
NC | Cape Fear Public Transportation Authority | D2017-BUSC-066 | Compressed Natural Gas Buses | $3,600,000 | Highly Recommended.
NC | Jacksonville Transit | D2017-BUSC-067 | Jacksonville Multi-Modal Center (MMC) | $4,500,000 | Highly Recommended.
ND | City of Grand Forks | D2017-BUSC-068 | Public Transportation Facility Rehabilitation/Renewal & Expansion Project | $3,600,000 | Highly Recommended.
NE | City of Lincoln, Nebraska | D2017-BUSC-069 | StarTran Facility Relocation Project—Phase I | $2,600,000 | Highly Recommended.
NH | City of Nashua/Nashua Transit System | D2017-BUSC-070 | 2 Projects: (1) Rolling Stock Procurement/ (2) Transit Center Retrofit | $1,080,000 | Highly Recommended.
NH | New Hampshire Department of Transportation | D2017-BUSC-071 | Cooperative Alliance for Seacoast Transportation (COAST) (Urban Provider) Rolling Stock Bus Replacement | $1,520,000 | Highly Recommended.
NJ | NJ TRANSIT Corporation | D2017-BUSC-072 | Bus Garage Roof Replacements | $2,600,000 | Highly Recommended.
NJ | Cape May County Fare Free Transportation | D2017-BUSC-073 | Fare Free Transportation Administration Building | $1,200,000 | Highly Recommended.
NM | City of Santa Fe | D2017-BUSC-074 | Santa Fe Transit Rehabilitation Center on Entrada | $2,036,562 | Highly Recommended.
NM | New Mexico Department of Transportation | D2017-BUSC-075 | NCRTD Maintenance Facility, Vehicle Wash Bay and Fueling Station | $3,600,000 | Highly Recommended.
NV | Regional Transportation Commission of Southern Nevada | D2017-BUSC-076 | Enhancing Safety and Reliability by Proactive Investment in Transit Capital | $4,588,766 | Highly Recommended.
NV | Carson Area Metropolitan Planning Organization (CAMPO) | D2017-BUSC-077 | Replacement of fixed route vehicles for the Jump Around Carson (JAC) transit fleet | $447,480 | Highly Recommended.
NV | Pyramid Lake Paiute Tribe | D2017-BUSC-078 | Pyramid Lake Paiute Tribal Transit Project: New Transit Facility | $1,500,000 | Highly Recommended.
NY | Broome County Department of Public Transportation | D2017-BUSC-079 | Low/No Emissions Fixed Route Buses | $2,040,000 | Highly Recommended.
NY | City of Glen Cove | D2017-BUSC-080 | City of Glen Cove Loop Bus Vehicle | $59,500 | Highly Recommended.
NY | County of Westchester | D2017-BUSC-081 | Replace Bee-Line Articulated Bus Fleet with Hybrid Electric Buses | $3,600,000 | Highly Recommended.
OH | Butler County Regional Transit Authority | D2017-BUSC-082 | Butler County Connect—Chestnut Street Multimodal Station and Shared Services Facility | $2,668,750 | Highly Recommended.
OH | Greater Cleveland Regional Transit Authority (GCRTA) | D2017-BUSC-083 | Triskett CNG Building Compliance Project | $2,668,750 | Highly Recommended.
OH | Greater Dayton Regional Transit Authority | D2017-BUSC-084 | Bus Replacement | $2,325,000 | Highly Recommended.
OH | Portage Area Regional Transportation Authority | D2017-BUSC-085 | Indoor PARTA Storage Facility | $2,668,750 | Highly Recommended.
OH | Southwest Ohio Regional Transit Authority | D2017-BUSC-086 | Bus Replacement And New Delivery (BRAND) | $2,668,750 | Highly Recommended.
OK | Metropolitan Tulsa Transit Authority | D2017-BUSC-087 | Tulsa Transit Bus Replacement Program | $4,202,870 | Highly Recommended.
OK | Oklahoma Department of Transportation | D2017-BUSC-088 | Replacement Rural Transit Vehicles | $3,600,000 | Highly Recommended.
OK | Oklahoma Department of Transportation | D2017-BUSC-089 | Oklahoma State/Stillwater Community Transit Transportation Operations and Maintenance Facility | $2,400,000 | Highly Recommended.
OR | Rogue Valley Transportation District | D2017-BUSC-090 | A Transit Signal Priority System for Southern Oregon | $1,020,014 | Highly Recommended.
OR | Rogue Valley Transportation District | D2017-BUSC-091 | Replacement ADA Accessible Low-Floor Clean Natural Gas Buses | $3,018,750 | Highly Recommended.
OR | Salem Area Mass Transit District | D2017-BUSC-092 | Bus Replacement | $2,475,000 | Highly Recommended.
PA | Luzerne County Transportation Authority | D2017-BUSC-093 | CNG Replacement Buses | $1,700,000 | Highly Recommended.
PA | Port Authority of Allegheny County | D2017-BUSC-094 | Bus Replacement | $3,600,000 | Highly Recommended.
PA | Pennsylvania Department of Transportation | D2017-BUSC-095 | Bradford Transportation Center | $2,639,499 | Highly Recommended.
PA | Transportation & Motor Buses for Public Use Authority | D2017-BUSC-096 | Bus Replacement | $1,800,000 | Highly Recommended.
PR | Autonomous Municipality of Caguas | D2017-BUSC-097 | Renovation of the Francisco Pereira Transportation Terminal/Replacement of Vans | $2,600,000 | Highly Recommended.
RI | Rhode Island Public Transit Authority | D2017-BUSC-098 | East Side Tunnel Improvements | $903,870 | Highly Recommended.
SC | South Carolina Department of Transportation | D2017-BUSC-099 | SCDOT Vehicle Replacement | $4,500,000 | Highly Recommended.
SD | SD Department of Transportation | D2017-BUSC-100 | Acquisition of ADA vans, small buses, medium duty buses and light duty buses | $1,874,400 | Highly Recommended.
TN | City of Knoxville, Tennessee | D2017-BUSC-101 | Electric Buses and Charging Equipment | $3,600,000 | Highly Recommended.
TN | Tennessee Department of Transportation | D2017-BUSC-102 | Public Transit Fixed Route and Demand Response Vehicle Replacement | $6,000,000 | Highly Recommended.
TX | Denton County Transportation Authority | D2017-BUSC-103 | Bus Operations and Maintenance Facility | $2,625,000 | Highly Recommended.
TX | Golden Crescent Regional Planning Commission | D2017-BUSC-104 | Vehicle Replacements and Shelter Projects | $1,222,799 | Highly Recommended.
TX | Gulf Coast Center | D2017-BUSC-105 | Connect Transit Administration and Operations Center and Park and Ride Facility | $3,001,068 | Highly Recommended.
TX | Metropolitan Transit Authority of Harris County, Texas | D2017-BUSC-106 | 2 Projects: (1) North Post Oak Transitway Project/ (2) Universal Accessibility Improvements at Bus Stops | $3,600,000 | Highly Recommended.
UT | Utah Transit Authority | D2017-BUSC-107 | Depot District Clean Fuel Tech Center | $2,600,000 | Highly Recommended.
VA | Potomac and Rappahannock Transportation Commission | D2017-BUSC-108 | Bus Replacement | $3,600,000 | Highly Recommended.
VA | Town of Blacksburg/Blacksburg Transit | D2017-BUSC-109 | Purchase of 60-foot Articulated Buses | $1,440,000 | Highly Recommended.
VI | Virgin Islands Department of Public Works | D2017-BUSC-110 | Bus Shelter Replacements and Constructing Bus Shelters in Locations with Only Bus Stop Signs | $445,640 | Highly Recommended.
VT | Vermont Agency of Transportation | D2017-BUSC-111 | Green Mountain Transit Expansion Vehicles | $800,000 | Highly Recommended.
VT | Vermont Agency of Transportation | D2017-BUSC-112 | Statewide Bus Replacement | $1,800,000 | Highly Recommended.
WA | Ben Franklin Transit | D2017-BUSC-113 | Rehabilitation & Enhancement of the Operations Building | $1,200,000 | Highly Recommended.
WA | Central Puget Sound Regional Transit Authority | D2017-BUSC-114 | Replace Expired Buses with New High Capacity Transit Buses | $1,375,000 | Highly Recommended.
WA | City of Everett, Everett Transit | D2017-BUSC-115 | Replacement of Diesel Buses with No Emission Electric Buses | $1,375,000 | Highly Recommended.
WA | Intercity Transit | D2017-BUSC-116 | Pattison Street Facility Renovation and Expansion Project | $1,375,000 | Highly Recommended.
WA | King County Department of Transportation | D2017-BUSC-117 | 2 Projects: (1) Eastlake Off-Street Layover Facility/ (2) King County Metro Fleet Replacement—Battery Electric Buses | $1,375,000 | Highly Recommended.
WA | Muckleshoot Indian Tribe | D2017-BUSC-118 | Muckleshoot Transit Bus Facility Rehabilitation | $800,000 | Highly Recommended.
WA | Pierce County Public Transportation Benefit Area Corporation | D2017-BUSC-119 | CNG Bus Replacement | $1,375,000 | Highly Recommended.
WA | Skagit Transit System | D2017-BUSC-120 | Skagit Transit System Maintenance Operations and Administration Facility Project | $1,375,000 | Highly Recommended.
WA | Snohomish County Transportation Benefit Area | D2017-BUSC-121 | Double Decker Replacement Buses | $1,375,000 | Highly Recommended.
WA | Spokane Transit Authority | D2017-BUSC-122 | Fixed Route Coaches | $1,375,000 | Highly Recommended.
WI | City of Oshkosh | D2017-BUSC-123 | Bus Replacement | $1,200,000 | Highly Recommended.
WI | Wisconsin Department of Transportation (WisDOT) | D2017-BUSC-124 | City of Hartford Replacement non-accessible Mini-van | $32,000 | Highly Recommended.
WI | Wisconsin Department of Transportation (WisDOT) | D2017-BUSC-125 | Rural Transit Technology Improvements | $134,880 | Highly Recommended.
WI | City of Appleton | D2017-BUSC-126 | 2 Projects: (1) Bus Replacement/ (2) Facilities Renovation Project | $350,506 | Highly Recommended.
WI | City of Janesville | D2017-BUSC-127 | Replacement Buses | $350,506 | Highly Recommended.
WI | City of Sheboygan | D2017-BUSC-128 | Roof Replacement for Shoreline Metro Administrative and Maintenance Facility | $350,506 | Highly Recommended.
WI | Wisconsin Department of Transportation (WisDOT) | D2017-BUSC-129 | City of West Bend—Replacement non-accessible mini-van and replacement ADA-accessible cutaway mini-buses | $181,600 | Highly Recommended.
WV | Eastern Panhandle Transit Authority | D2017-BUSC-130/D2017-BUSC-131 | Transit Operations and Transfer Center | $4,491,510/$8,490 | Highly Recommended.
|  |  | Total | $264,446,775 |

[FR Doc. 2018-13558 Filed 6-22-18; 8:45 am]

BILLING CODE P